DEPARTMENT OF ENERGY

Federal Energy Regulatory Commission

Combined Notice of Filings #1

Take notice that the Commission received the following electric corporate filings:

Docket Numbers: EC21-84-000.

Applicants: Seneca Energy II, LLC, Innovative Energy Systems, LLC, Sunshine Gas Producers, LLC, Rice Acquisition Corporation, PEI Power LLC, PEI Power II, LLC.

Description: Supplement to April 28, 2021 Application for Authorization Under Section 203 of the Federal Power Act of Seneca Energy II, LLC, et al.

Filed Date: 5/17/21.

Accession Number: 20210517-5233.

Comments Due: 5 p.m. ET 6/1/21.

Take notice that the Commission received the following exempt wholesale generator filings:

Docket Numbers: EG21-152-000.

Applicants: Blackwell Wind Energy, LLC.

Description: Notice of Self-Certification of Exempt Wholesale Generator Status of Blackwell Wind Energy, LLC.

Filed Date: 5/19/21.

Accession Number: 20210519-5173.

Comments Due: 5 p.m. ET 6/9/21.

Docket Numbers: EG21-153-000.

Applicants: Fort Bend Solar LLC.

Description: Notice of Self-Certification of Exempt Wholesale Generator Status of Fort Bend Solar LLC.

Filed Date: 5/20/21.

Accession Number: 20210520-5072.

Comments Due: 5 p.m. ET 6/10/21.

Docket Numbers: EG21-154-000.

Applicants: Big River Solar, LLC.

Description: Notice of Self-Certification of Exempt Wholesale Generator Status of Big River Solar, LLC.

Filed Date: 5/20/21.

Accession Number: 20210520-5126.

Comments Due: 5 p.m. ET 6/10/21.

Take notice that the Commission received the following electric rate filings:

Docket Numbers: ER19-1200-002; ER10-2346-011; ER10-2353-011; ER11-4351-012; ER19-842-002; ER21-1947-001.

Applicants: Clearway Power Marketing LLC, Energy Center Paxton LLC, Forward WindPower LLC, Lookout Windpower, LLC, Pinnacle Wind, LLC, NedPower Mount Storm LLC.

Description: Notice of Change in Status of Clearway Power Marketing LLC, et al.

Filed Date: 5/19/21.

Accession Number: 20210519-5180.

Comments Due: 5 p.m. ET 6/9/21.

Docket Numbers: ER21-1191-001.

Applicants: Southwestern Electric Power Company.

Description: Tariff Amendment: Amended and Restated Minden PSA to be effective 1/1/2018.

Filed Date: 5/20/21.

Accession Number: 20210520-5029.

Comments Due: 5 p.m. ET 6/10/21.

Docket Numbers: ER21-1191-002.

Applicants: Southwestern Electric Power Company.

Description: Tariff Amendment: Amended and Restated Minden PSA to be effective 5/31/2018.

Filed Date: 5/20/21.

Accession Number: 20210520-5038.

Comments Due: 5 p.m. ET 6/10/21.

Docket Numbers: ER21-1191-003.

Applicants: Southwestern Electric Power Company.

Description: Tariff Amendment: Amended and Restated Minden PSA to be effective 8/1/2018.

Filed Date: 5/20/21.

Accession Number: 20210520-5039.

Comments Due: 5 p.m. ET 6/10/21.

Docket Numbers: ER21-1191-004.

Applicants: Southwestern Electric Power Company.

Description: Tariff Amendment: Amended and Restated Minden PSA to be effective 1/1/2020.

Filed Date: 5/20/21.

Accession Number: 20210520-5045.

Comments Due: 5 p.m. ET 6/10/21.

Docket Numbers: ER21-1528-001.

Applicants: Midcontinent Independent System Operator, Inc., Duke Energy Indiana, LLC.

Description: Tariff Amendment: 2021-05-20_SA 3646 DEI-Hardy Hills Substitute E&P (J1063) to be effective 3/27/2021.

Filed Date: 5/20/21.

Accession Number: 20210520-5043.

Comments Due: 5 p.m. ET 6/10/21.

Docket Numbers: ER21-1671-001.

Applicants: PJM Interconnection, L.L.C.

Description: Tariff Amendment: Correction: Amendment to ISA, SA No. 5596; Queue No. AD1-020 to be effective 2/4/2020.

Filed Date: 5/20/21.

Accession Number: 20210520-5056.

Comments Due: 5 p.m. ET 6/10/21.

Docket Numbers: ER21-1953-000.

Applicants: Heartland Divide Wind II, LLC.

Description: Baseline eTariff Filing: Heartland Divide Wind II, LLC Application for MBR Authority to be effective 7/19/2021.

Filed Date: 5/19/21.

Accession Number: 20210519-5168.

Comments Due: 5 p.m. ET 6/9/21.

Docket Numbers: ER21-1954-000.

Applicants: PJM Interconnection, L.L.C.

Description: § 205(d) Rate Filing: Original WMPA, Service Agreement No. 6067; Queue No. AG1-079 to be effective 4/20/2021.

Filed Date: 5/20/21.

Accession Number: 20210520-5040.

Comments Due: 5 p.m. ET 6/10/21.

Docket Numbers: ER21-1955-000.

Applicants: Duke Energy Progress, LLC.

Description: § 205(d) Rate Filing: DEP-American Beech Solar ASOA SA No. 388 to be effective 5/21/2021.

Filed Date: 5/20/21.

Accession Number: 20210520-5059.

Comments Due: 5 p.m. ET 6/10/21.

Docket Numbers: ER21-1956-000.

Applicants: GenOn Canal, LLC.

Description: Tariff Cancellation: Notice of Cancellation to be effective 5/21/2021.

Filed Date: 5/20/21.

Accession Number: 20210520-5064.

Comments Due: 5 p.m. ET 6/10/21.

Docket Numbers: ER21-1957-000.

Applicants: Duke Energy Florida, LLC.

Description: § 205(d) Rate Filing: DEF-TECO Concurrence RS 268 to be effective 8/1/2021.

Filed Date: 5/20/21.

Accession Number: 20210520-5070.

Comments Due: 5 p.m. ET 6/10/21.

Docket Numbers: ER21-1958-000.

Applicants: Idaho Power Company.

Description: § 205(d) Rate Filing: BPA NITSA SA 305 Update to be effective 6/1/2021.

Filed Date: 5/20/21.

Accession Number: 20210520-5073.

Comments Due: 5 p.m. ET 6/10/21.

Docket Numbers: ER21-1959-000.

Applicants: Southern California Edison Company.

Description: Tariff Cancellation: Notices of Termination SGIA & DSA SA Nos. 221 and 222 to be effective 7/20/2021.

Filed Date: 5/20/21.

Accession Number: 20210520-5080.

Comments Due: 5 p.m. ET 6/10/21.

Docket Numbers: ER21-1960-000.

Applicants: Duke Energy Progress, LLC.

Description: § 205(d) Rate Filing: DEP-Dominion Concurrence RS No. 196 to be effective 5/19/2021.

Filed Date: 5/20/21.

Accession Number: 20210520-5094.

Comments Due: 5 p.m. ET 6/10/21.

Docket Numbers: ER21-1961-000.

Applicants: Big River Solar, LLC.

Description: Baseline eTariff Filing: Application for Market-Based Rate Authority to be effective 7/15/2021.

Filed Date: 5/20/21.

Accession Number: 20210520-5101.

Comments Due: 5 p.m. ET 6/10/21.

Docket Numbers: ER21-1962-000.

Applicants: Mulberry BESS LLC.

Description: Baseline eTariff Filing: Market-Based Rate Application and Request for Expedited Action to be effective 5/21/2021.

Filed Date: 5/20/21.

Accession Number: 20210520-5113.

Comments Due: 5 p.m. ET 6/10/21.

Take notice that the Commission received the following electric securities filings:

Docket Numbers: ES21-37-000.

Applicants: DTE Electric Company.

Description: DTE Electric Company submits Amendments to Exhibits C and D of Application and Request to Shorten Comment Period.

Filed Date: 5/20/21.

Accession Number: 20210520-5083.

Comments Due: 5 p.m. ET 6/1/21.

Take notice that the Commission received the following electric reliability filings:

Docket Numbers: RR21-4-000.

Applicants: North American Electric Reliability Corporation.

Description: Petition of The North American Electric Reliability Corporation For Approval of Amendments to the Western Electricity Coordinating Council Regional Reliability Standards Development Procedures.

Filed Date: 5/19/21.

Accession Number: 20210519-5190.

Comments Due: 5 p.m. ET 6/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 20, 2021.
Debbie-Anne A. Reese,
Deputy Secretary.

[FR Doc. 2021-11179 Filed 5-26-21; 8:45 am]

BILLING CODE 6717-01-P